DEPARTMENT OF COMMERCE

Foreign-Trade Zones Board

[Order No. 1620]

Grant of Authority for Subzone Status; Grafil, Inc. (Carbon Fiber), Sacramento, CA

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, the Board's regulations (15 CFR part 400) provide for the establishment of special-purpose subzones when existing zone facilities cannot serve the specific use involved, and when the activity results in a significant public benefit and is in the public interest;

Whereas, the Sacramento-Yolo Port District, grantee of FTZ 143, has made application to the Board for authority to establish special-purpose subzone status at the carbon fiber manufacturing plant of Grafil, Inc., located in Sacramento, California (FTZ Docket 37-2007, filed 8/14/2007);

Whereas, notice inviting public comment has been given in the Federal Register (72 FR 48612, 8/24/07); and,

Whereas, the Board adopts the findings and recommendations of the examiner's report, and finds that the requirements of the FTZ Act and the Board's regulations would be satisfied, and that approval of the application would be in the public interest, if approval were subject to the condition listed below;

Now, therefore, the Board hereby grants authority for subzone status for activity related to the manufacture of carbon fiber at the Grafil, Inc., facilities, located in Sacramento, California (Subzone 143D), as described in the application and Federal Register notice, subject to the FTZ Act and the Board's regulations, including Section 400.28, and also subject to the condition that approval is for an initial period of five years, subject to extension upon review.

Signed at Washington, DC, this 7th day of May 2009.
Ronald K. Lorentzen,
Acting Assistant Secretary of Commerce for Import Administration, Alternate Chairman, Foreign-Trade Zones Board.
Andrew McGilvray,
Executive Secretary.

[FR Doc. E9-12129 Filed 5-22-09; 8:45 am]

BILLING CODE P